DEPARTMENT OF AGRICULTURE

Forest Service

Manti-La Sal National Forest; State of Utah; State Institutional Trust Lands Administration Access Routes on East Mountain, Emery County, UT; Revision of Notice of Intent to Prepare an Environmental Impact Statement

AGENCY: Forest Service, USDA.

ACTION: Revision of notice of intent to prepare an environmental impact statement.

SUMMARY: The Forest Service (FS) issued a notice of intent (NOI) published in the Federal Register on May 3, 2002, on pages 22392-22393. The NOI discussed that the Forest Service (FS) would prepare an Environmental Impact Statement (EIS) to disclose the impacts of authorizing adequate access across National Forest System lands to the State of Utah School & Institutional Trust Lands Administration (SITLA) lands within the Manti-La Sal National Forest, Emery County, Utah.

This NOI amends the original NOI of May 3, 2002, by adding two additional projects and opening a new round of public scoping.

DATES: Comments concerning issues, alternatives and the scope of the analysis must be received within 30 days from the date of publication of this revision of notice of intent in the Federal Register. The Draft Environmental Impact Statement is expected by April 2003, and a Final Environmental Impact Statement (FEIS) is expected by August 2003.

ADDRESSES: Send written comments to Elaine J. Zieroth, Forest Supervisor, Manti-La Sal National Forest, 599 West Price River Drive, Price, Utah 84501, ATTN: Leland Matheson.

FOR FURTHER INFORMATION CONTACT: Aaron Howe, Mineral and Lands Staff Officer, Manti-La Sal National Forest, 599 West Price River Drive, Price, Utah 84501.

SUPPLEMENTARY INFORMATION: The previous NOI stated that the FS was going to prepare an EIS to “decide whether to authorize SITLA to construct a new road and reconstruct existing roads”, so that SITLA could have access to their land which is surrounded by the Manti-La Sal National Forest. This revised NOI is outlining expanded activities associated with SITLA (timber harvest to the North and a natural gas well to the South) and Prima Oil Company natural gas well in the same East Mountain area of the National Forest.

SITLA

The Forest Service will prepare an EIS to disclose effects and provide the basis for deciding whether to authorize SITLA to construct a new road and reconstruct existing Forest Service roads across National Forest System Lands, for access to their inholdings on East Mountain for project activities. A segment of the new access route and a portion of the existing roads to be reconstructed traverse portions of the East Mountain Inventoried Roadless Area. SITLA inholdings addressed in this revision consist of one section: Section 36, Township 16 South (T16S), Range 6 East (R6E), Salt Lake Median (SLM) about 640 acres. Provisions of the Alaska National Interest Lands Conservation Act (ANILCA) of 1980, section 1323(a) (16 U.S.C. 3210) provides that the owners of non-Federal land within the National Forest shall be provided adequate access to their land. Regulations implementing section 1323(a) are set forth in title 36, Code of Federal Regulations, part 251, subpart D—Access to Non-Federal Lands. The Forest Service Policy is further explained in the Forest Service Manual (FSM) 5400 and 2700. Access must comply with other laws and regulations such as the Threatened and Endangered Species Act, Clean Water Act, Historic Preservation Act, and the National Environmental Protection Act.

Prima Oil & Gas

Prima Oil and Gas Company has proposed to drill a natural gas exploration well on National Forest System Lands southwest of the Inventoried Roadless Area adjacent to an existing Forest Service Road. The proposed well site is located as follows: NE ¼, Section 23 Township 16 South, Range 6 East, SLM, Emery County, Utah.

Purpose and Need for Action

The purpose and need for this action is three fold, SITLA, Prima Oil & Gas and the Forest Service. SITLA's purpose and need is to have an adequate access route across National Forest System Lands to SITLA inholdings for resource management activities on these lands.

Prima Oil & Gas Company's purpose and need is to explore for and produce any economic reserves of natural gas within their lease agreement. The responsible agencies must provide reasonable opportunities to accomplish this consistent with the rights granted by the Leases consistent with Forest Plan direction.

The Forest Service purpose and need is to evaluate the requests from SITLA and Prima Oil & Gas and then to determine whether to authorize permits for access, consistent with applicable laws, regulations, and Forest Service Policy.

Proposed Action

SITLA

The FS is proposing to authorize SITLA to construct a private road and reconstruct Forest Service Roads 50145 (Flat Canyon Road) and 50244 (Big East Road). The Flat Canyon Road will be reconstructed from Forest Service Road 50040 to the SITLA inholdings at Section 36, T16S, R6E, SLM. Forest Service Road 50244 will be reconstructed from the intersection of Forest Service Road 50145. To its termini near the center of Section 11, T16S R6E. A private road will be constructed from Section 11 Northward to SITLA inholdings, in Section 36, T15S R6E. The private road construction will continue through the SITLA land in Section 2, T16S R6E and cross the National Forest in Section 35 T15S R6E, SLM for the purpose of connecting to SITLA land located at Section 36 T15S R6E, SLM.

Prima Oil & Gas Company

The Forest Service also proposes to allow Prima Oil & Gas Company access to their lease via Forest Service Roads and use of National Forest System Lands to construct an oil and gas drill pad consistent with the conditions of Primas lease and the Manti La Sal Land Management and Resource Plan. The drill pad is proposed to be located at the intersection of Forest Service Roads 50244 and 50145.

Responsible Official

The Responsible Official for the Record of Decision is Elaine J. Zieroth, Forest Supervisor, Manti-LaSal National Forest, 599 West Price River Drive, Price, Utah 84501.

Scoping Process

This revised notice of intent initiates a new scoping process which guides the development of the EIS. Scoping will be by newspaper legal notice, mailings to interested parties and quarterly schedule of proposed actions. No public meetings are planned.

Preliminary Issues

Preliminary issues have been identified. They include the effects to the undeveloped character of the East Mountain Inventoried Roadless Area, land stability and effects to wildlife.

Comment Requested

If you choose to participate, your comments should be in writing and as specific as possible. All comments will be considered. Please note: comments submitted, as well as the names and addresses of those who comment, are considered part of the public record and will be released if requested under the Freedom of Information Act. If you provide a comment, you will remain on our mailing list for this project. If you do not comment but want to remain on the mailing list, please notify us. Those who do not comment or otherwise notify us will be dropped from the mailing list for this project. The estimated dates for filing the draft EIS is April 2003 and the FEIS is August 2003.

Early Notice of Importance of Public Participation in Subsequent Environmental Review

A DEIS will be prepared for comment. The comment period on the DEIS will be 45 days from the date the Environmental Protection Agency publishes the notice of availability in the Federal Register.

The Forest Service believes, at this early stage, it is important to give reviewers notice of several court rulings related to public participation in the environmental review process. First, reviewers of DEIS must structure their participation in the environmental review of the proposal so that it is meaningful and alerts an agency to the reviewer's position and contentions. Vermont Yankee Nuclear Power Corp. v. NRDC, 435 U.S. 519, 553 (1978). Also, environmental objections that could be raised at the DEIS stage but that are not raised until after completion of the FEIS may be waived or dismissed by the courts. City of Angoon v. Hodel, 803 F.2d 1016, 1022 (9th Cir. 1986) and Wisconsin Heritages, Inc. v. Harris, 490 F. Supp. 1334, 1338 (E.D. Wis 1980). Because of these court rulings, it is very important that those interested in this proposed action participate by the close of the 45 day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points.

Authority: 40 CFR 1501.7 and 1508.22; Forest Service Handbook 1909.15, section 21 and 21.2.

Dated: December 5, 2002.
Elaine J. Zieroth,
Forest Supervisor, MantiLaSal National Forest.

[FR Doc. 02-31413 Filed 12-12-02; 8:45 am]

BILLING CODE 3410-11-M